DEPARTMENT OF TRANSPORTATION

Federal Aviation Administration

14 CFR Part 71

[Docket No. FAA-2017-0216; Airspace Docket No. 17-ANM-7]

Amendment of Class D and Class E Airspace for the Following Idaho Towns; Lewiston, ID; Pocatello, ID; and Twin Falls, ID

AGENCY: Federal Aviation Administration (FAA), DOT.

ACTION: Final rule, technical amendment.

SUMMARY: This action amends the legal description of the Class E airspace designated as an extension at Lewiston-Nez Perce County Airport, Lewiston, ID; Pocatello Regional Airport, Pocatello, ID; and Joslin Field-Magic Valley Regional Airport, Twin Falls, ID, eliminating the Notice to Airmen (NOTAM) part-time status. Additionally, this action updates the geographic coordinates of these airports, the Pocatello VHF Omnidirectional Radar Range Tactical Air Navigation Aid (VORTAC) the Twin Falls VORTAC, and American Falls Airport listed in the associated Class D and Class E airspace descriptions for Pocatello Regional Airport, and Joslin Field-Magic Valley Regional Airport to match the FAA's aeronautical database. This action does not affect the charted boundaries or operating requirements of the airspace.

DATES: Effective 0901 UTC, June 22, 2017. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Lewiston-Nez Perce County Airport, Lewiston, ID, Pocatello Regional Airport, Pocatello, ID, and Joslin Field-Magic Valley Regional Airport, Twin Falls, ID.

History

The FAA Aeronautical Information Services branch found the Class E airspace designated as an extension to a Class D or Class E surface area does not require NOTAM part-time status at Lewiston-Nez Perce County Airport, Lewiston, ID; Pocatello Regional Airport, Pocatello, ID; and Joslin Field-Magic Valley Regional Airport, Twin Falls, ID, as published in FAA Order 7400.11A, Airspace Designations and Reporting Points. Also, after a review, the FAA found the geographic coordinates for Pocatello Regional Airport, Pocatello VORTAC, American Falls Airport, and Twin Falls VORTAC, listed in the associated Class D and Class E airspace for these airports as well as navigation aids do not match the FAA's current aeronautical database. This action makes these updates.

Class D and Class E airspace designations are published in paragraph 5000, 6002, 6004, and 6005, respectively, of FAA Order 7400.11A dated August 3, 2016, and effective September 15, 2016, which is incorporated by reference in 14 CFR part 71.1. The Class D and Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14, Code of Federal Regulations (14 CFR) part 71 by eliminating the following NOTAM information from the regulatory text of Class E airspace designated as an extension to Class D, at Lewiston-Nez Perce County Airport, Lewiston, ID; Pocatello Regional Airport, Pocatello, ID; and Joslin Field-Magic Valley Regional Airport, Twin Falls, ID: “This Class E airspace is effective during the specific dates and times established in advance by a Notice to Airmen. The effective date and time will thereafter be continuously published in the Airport/Facility Directory.” Also, this action updates the geographic coordinates for Pocatello Regional Airport, Pocatello VORTAC, American Falls Airport, and Twin Falls VORTAC listed in the associated Class D and Class E airspace for these airports and navigation aids to match the FAA's aeronautical database. This is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

ANM ID D Pocatello, ID [Modified]

Pocatello Regional Airport, ID

(Lat. 42°54′35″ N., long. 112°35′45″ W.)

That airspace extending upward from the surface to and including 6,900 feet MSL within a 4.5-mile radius of the Pocatello Regional Airport. This Class D airspace area is effective during the specific dates and times established in advance by a Notice to Airmen. The effective date and time will thereafter be continuously published in the Chart Supplement.

Paragraph 6002 Class E Airspace Designated as Surface Areas.

* * * * *

ANM ID E2 Pocatello, ID [Modified]

Pocatello Regional Airport, ID

(Lat. 42°54′35″ N., long. 112°35′45″ W.)

Within a 4.5-mile radius of the Pocatello Regional Airport. This Class E airspace area is effective during the specific dates and times established in advance by a Notice to Airmen. The effective date and time will thereafter be continuously published in the Chart Supplement.

Paragraph 6004 Class E Airspace Areas Designated as an Extension to a Class D or Class E Surface Area.

* * * * *

ANM ID E4 Lewiston, ID [Modified]

Lewiston-Nez Perce County Airport, ID

(Lat. 46°22′28″ N., long. 117°00′55″ W.)

Nez Perce VOR/DME

(Lat. 46°22′54″ N., long. 116°52′10″ W.)

Lewiston-Nez Perce ILS Localizer

(Lat. 46°22′27″ N., long. 117°01′54″ W.)

That airspace extending upward from the surface within 2.7 miles each side of the Lewiston-Nez Perce ILS localizer course extending from the 4.1-mile radius of the airport to 14 miles east of the airport, and within 3.5 miles each side of the Nez Perce VOR/DME 266° radial extending from the 4.1-mile radius of the airport to 13.1 miles west of the airport.

ANM ID E4 Pocatello, ID [Modified]

Pocatello Regional Airport, ID

(Lat. 42°54′35″ N., long. 112°35′45″ W.)

Pocatello VORTAC

(Lat. 42°52′13″ N., long. 112°39′08″ W.)

American Falls Airport

(Lat. 42°47′50″ N., long. 112°49′31″ W.)

That airspace extending upward from the surface within 2.7 miles each side of the Pocatello VORTAC 252° radial extending from the 4.5-mile radius of Pocatello Regional Airport to 7.4 miles west of the VORTAC, and within 4.3 miles each side of the Pocatello VORTAC 225° radial extending from the 4.5-mile radius of the airport to 9.2 miles southwest of the VORTAC; excluding that airspace within a 0.9-mile radius of American Falls Airport.

ANM ID E4 Twin Falls, ID [Modified]

Joslin Field-Magic Valley Regional Airport, ID

(Lat. 42°28′55″ N., long. 114°29′16″ W.)

Twin Falls VORTAC

(Lat. 42°28′47″ N., long. 114°29′22″ W.)

That airspace extending upward from the surface 4.2 miles south and 4.4 miles north of the Twin Falls VORTAC 086° and 281° radials extending from the 4.3-mile radius of Joslin Field-Magic Valley Regional Airport to 9.2 miles east and 9.2 miles west of the VORTAC.

Paragraph 6005 Class E Airspace Areas Extending Upward From 700 Feet or More Above the Surface of the Earth.

* * * * *

ANM ID E5 Pocatello, ID [Modified]

Pocatello Regional Airport, ID

(Lat. 42°54′35″ N., long. 112°35′45″ W.)

Pocatello VORTAC

(Lat. 42°52′13″ N., long. 112°39′08″ W.)

That airspace extending upward from 700 feet above the surface within 4 miles southeast and 9.6 miles northwest of the Pocatello VORTAC 048° radial extending from the VORTAC to 24.4 miles northeast of the VORTAC, and within 8.3 miles north and 4 miles south of the 252° radial extending from 16.1 miles west to 1.4 miles east of the VORTAC.

Issued in Seattle, Washington, on April 19, 2017.
Sam S.L. Shrimpton,
Acting Group Manager, Operations Support Group, Western Service Center.

[FR Doc. 2017-08366 Filed 4-25-17; 8:45 am]

BILLING CODE 4910-13-P